DEPARTMENT OF HEALTH AND HUMAN SERVICES

National Committee on Vital and Health Statistics

AGENCY: Centers for Disease Control and Prevention, HHS.

ACTION: Notice of meeting (virtual); notice of request for information (RFI).

SUMMARY: Pursuant to the Federal Advisory Committee Act, the Department of Health and Human Services (HHS) announces the following advisory committee meeting and related Request for Information (RFI). This meeting is open to the public. The public is welcome to obtain the link to attend this meeting by following the instructions posted on the Committee website: https://ncvhs.hhs.gov/meetings/full-committee-meeting-15. To submit comments in response to the RFI, please send by close of business January 12, 2024, to NCVHSmail@cdc.gov, and include on the subject line: Response from [your organization and/or name] regarding ICD-11 RFI.

Name: National Committee on Vital and Health Statistics (NCVHS) Meeting.

DATES:

Wednesday, November 29, 2023: 10 a.m.-5 p.m. ET.

Thursday, November 30, 2023: 10 a.m.-4:30 p.m. ET.

ADDRESSES: Virtual open meeting.

FOR FURTHER INFORMATION CONTACT: Substantive program information may be obtained from Rebecca Hines, MHS, Executive Secretary, NCVHS, National Center for Health Statistics, Centers for Disease Control and Prevention, 3311 Toledo Road, Hyattsville, Maryland 20782, or via electronic mail to vgh4@cdc.gov; or by telephone (301) 458-4715. Summaries of meetings and a roster of Committee members are available on the NCVHS website https://ncvhs.hhs.gov/ where further information including an agenda and instructions to access the broadcast of the meeting will be posted.

Should you require reasonable accommodation, please telephone the CDC Office of Equal Employment Opportunity at (770) 488-3210 as soon as possible.

SUPPLEMENTARY INFORMATION:

Name: National Committee on Vital and Health Statistics (NCVHS). Full Committee Meeting. The National Committee on Vital and Health Statistics was established by Congress to serve as the statutory [42 U.S.C. 242k(k)] advisory body to the Secretary of Health and Human Services for health data, statistics, privacy, and national health information policy. In addition, under the Health Insurance Portability and Accountability Act of 1996 (HIPAA),¹ NCVHS advises the Secretary on administrative simplification standards, including those for privacy, security, adoption and implementation of transaction standards, unique identifiers, code sets, and operating rules adopted under the Patient Protection and Affordable Care Act (ACA) ² and HIPAA. In that capacity, the Committee provides advice and assistance to the Department and serves as a forum for interaction with interested private sector groups on health data issues. It fulfills important review and advisory functions regarding health data and administrative standards of national and international scope, conducts studies of prevailing current topics, and makes recommendations for improvement of the Nation's health statistics and information systems.

¹ Public Law 104-191, 110 Stat. 1936 (Aug 21, 1996), available at https://www.congress.gov/104/plaws/publ191/PLAW-104publ191.pdf.

² Public Law 111-148, 124 Stat.119, available at https://www.congress.gov/111/plaws/publ148/PLAW-111publ148.pdf.

Purpose: The meeting agenda will include briefings from HHS officials, time for members to discuss and consider current and proposed activities outlined in the NCVHS 2023-24 workplan, and hold discussions on several health data policy topics, including health care standards development and cybersecurity.

The Subcommittee on Standards plans to hold a panel discussion on the approach used by Standards Development Organizations (SDOs) to evaluate and assess the readiness of new and updated standards prior to release for national implementation. This includes discussion on potential risks and impacts across existing standards, calculation of business cost recovery, and planning for the anticipated ICD-11 implementation timeline and expected milestones. Additional briefings on related topics such as HIPAA enforcement also may be included on the agenda.

The NCVHS Workgroup on Timely and Strategic Action to Inform ICD-11 Policy will report to the full Committee on recent activities, including information learned from the ICD-11 Expert Roundtable meeting held August 3, 2023, and its anticipated workplan in the upcoming 6-12 month period.

The Subcommittee on Privacy, Confidentiality, and Security will facilitate a discussion on proposed recommendations to HHS to strengthen the HIPAA Security Rule following recent Committee briefings on the topic. Finally, the Committee will allot time to discuss draft language for the Committee's 2023 Report to Congress.

The Committee will also reserve time on the agenda for public comment. Meeting times and topics are subject to change. Please refer to the agenda posted on the NCVHS website for updates: https://ncvhs.hhs.gov/meetings/full-committee-meeting-15.

Background on ICD-11: The International Classification of Diseases (ICD) is the global standard for health data, clinical documentation, and statistical aggregation. It provides a common language for recording, reporting, and monitoring diseases, allowing the world to compare and share data in a consistent and standard way—among hospitals, regions, and countries, and over periods of time. It facilitates the collection and storage of data for analysis and evidence-based decision-making by enabling systematic recording, reporting, analysis, interpretation, and comparison of mortality and morbidity data.

ICD-11 allows countries to count and identify their most pressing health issues using an up-to-date and clinically relevant classification system.3 4 5 6 Governments assign ICD-11 codes to health conditions and accidents so data can be used to design effective public health policies and measure their impacts, or so that clinicians can use the data for recording encounters with patients in a standard way.

³ ICD-11 Overview: Key Facts, History, and References (September 2023): https://ncvhs.hhs.gov/NCVHS-WG-ICD-11-Overview-September-2023.

⁴ ICD-11 was adopted at the World Health Assembly in May 2019 and Member States committed to start using it for mortality and morbidity reporting in 2022. Since 2019, early adopter countries, translators, and scientific groups have recommended further refinements to produce the version that is posted online today. World Health Organization (WHO) Press Release. (February 11, 2022): https://paho.org/en/news/11-2-2022-whos-new-international-classification-diseases-icd-11-comes-effect.

⁵ WHO ICD-11 website: https://icd.who.int/en.

⁶ WHO ICD-11 Fact Sheet: https://icd.who.int/en/docs/icd11factsheet_en.pdf.

Request for Information: This Notice also serves as a Request for Information (RFI) addressing the potential use of ICD-11 for morbidity coding in the U.S. We welcome responses from industry stakeholders, interested individuals and organizations, or any members of the public. The following questions are a guide to information the Workgroup would find particularly helpful, though respondents are invited to comment on any aspect of ICD-11 that they wish.

1. Related to ICD-11 content and addressing U.S.-specific needs, which enhancements in classification content would be most useful?

a. Coding to assess and address population health equity, social, behavioral, and community health

b. Coding to measure health care quality and patient safety

c. Coding for rare diseases

d. Content on other topics?

2. What is the potential to reduce burdens and improve quality/accuracy through the greater automation offered by the ICD-11 online classification systems?

a. How might automation reduce burdens of clinical documentation and coding for reimbursement, risk adjustment, clinical registry, and public health reporting?

b. What might be the role of artificial intelligence for your organization?

c. What might be the role of standardized cross-maps to other coding systems?

d. What other potential features could promote burden reduction?

3. What standards, systems, workforce, and processes must change to accommodate ICD-11?

a. How would your organization assess the cost and impact of these changes?

b. How might technical changes such as clustered (post-coordinated) coding be implemented in your environment?

c. What other changes are related?

4. What are the most important considerations and requirements for a U.S. governing body for ICD-11?

a. Developing and managing implementation plans and programs for ICD-11 in the U.S.

b. Developing regulations or guidance for ICD-11 applicable to your organization.

c. Ongoing management and maintenance of U.S. ICD-11 and its use.

d. Other requirements not named above?

5. What financial, educational, or human resources will be needed for:

a. Implementing ICD-11 in your organization.

b. Managing and maintaining U.S. ICD-11 in your organization.

c. Meeting the needs of smaller, less resourced, or less externally supported entities.

d. What other resources not listed here may be needed?

The Committee will compile submitted responses and consider them together with responses submitted in response to the initial ICD-11 RFI [https://ncvhs.hhs.gov/wp-content/uploads/2023/07/RFI-Responses-NCVHS-Workgroup-on-Timely-and-Strategic-Action-to-Inform-ICD-11-Policy.pdf] together with input from subject matter experts during the August 3, 2023, ICD-11 Expert Roundtable meeting [https://ncvhs.hhs.gov/meetings/icd-11-workgroup-meeting/]. To submit comments in response to the RFI, please send by January 12, 2024, to NCVHSmail@cdc.gov and include on the subject line: Response from [your organization or name] regarding ICD-11 RFI.

Sharon Arnold,
Associate Deputy Assistant Secretary, Office of Science and Data Policy, Office of the Assistant Secretary for Planning and Evaluation.

[FR Doc. 2023-22753 Filed 10-13-23; 8:45 am]

BILLING CODE 4150-05-P